DEPARTMENT OF TRANSPORTATION

Federal Aviation Administration

14 CFR Part 39

[Docket No. FAA-2010-0721; Directorate Identifier 2009-SW-56-AD; Amendment 39-16370; AD 2010-15-04]

RIN 2120-AA64

Airworthiness Directives; Eurocopter France (ECF) Model EC225LP Helicopters

AGENCY: Federal Aviation Administration (FAA), Department of Transportation (DOT).

ACTION: Final rule; request for comments.

SUMMARY: We are adopting a new airworthiness directive (AD) for the specified ECF Model EC225LP helicopters. This AD results from a mandatory continuing airworthiness information (MCAI) AD issued by the aviation authority of the European Aviation Safety Agency (EASA), which is the Technical Agent for the Member States of the European Community. The MCAI AD states there have been a “few” reports of cracks and failure of the main rotor hub (MRH) cone restrainer support lugs at their attachment points on the reinforcement ring where the dome fairing is secured. Also, cracks on the dome fairing support have been reported. Failure of the cone restrainer support or the dome fairing support attachment lugs may lead to loss of the dome fairing, damage to the rotor blades, and subsequent loss of control of the helicopter.

DATES: This AD becomes effective on August 11, 2010.

The incorporation by reference of certain publications listed in the regulations is approved by the Director of the Federal Register as of August 11, 2010.

We must receive comments on this AD by September 27, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, Gary Roach, ASW-111, Aviation Safety Engineer, Rotorcraft Directorate, Regulations and Guidance Group, 2601 Meacham Blvd., Fort Worth, Texas 76137, telephone (817) 222-5130, fax (817) 222-5961.

SUPPLEMENTARY INFORMATION:

Discussion

EASA, which is the Technical Agent for the Member States of the European Community, has issued EASA AD 2009-0024, dated February 20, 2009, to correct an unsafe condition for the Eurocopter Model EC225LP helicopters.

The MCAI AD states there have been a “few” reports of cracks and failure of the MRH cone restrainer support lugs in the area of their attachment points on the reinforcement ring where the dome fairing is secured. Also, cracks on the dome fairing support have been reported. Failure of the cone restrainer support or the dome fairing support attachment lugs may lead to loss of the dome fairing, damage to the rotor blades, and subsequent loss of control of the helicopter or injury to persons on the ground.

You may obtain further information by examining the MCAI AD and any related service information in the AD docket.

Related Service Information

Eurocopter has issued one Emergency Alert Service Bulletin (EASB) No. 05A003, Revision 2, dated February 3, 2009 (EASB No. 05A003) for two different helicopters: the Model EC225LP and the military Model EC725AP, a non-FAA type certificated helicopter. Eurocopter has also issued EASB No. 62-007, dated July 10, 2009 (SB 62-007), which corresponds to MOD 0743718. EASB 05A003 specifies checking the MRH in the area of the cone restrainer support attachment lugs and the dome fairing support attachment lugs for a crack. If a crack is found in one of the five lugs of the cone restrainer support or the dome fairing support, the EASB specifies complying with SB 62-007 before further flight. SB 62-007 specifies modifying the MRH by replacing the cone restrainer support and the dome fairing support, reidentifying those parts and balancing the main rotor blades if they were removed. The actions described in the MCAI AD are intended to correct the unsafe condition identified in the service information.

FAA's Evaluation and Unsafe Condition Determination

This helicopter has been approved by the aviation authority of France and is approved for operation in the United States. Pursuant to our bilateral agreement with France, EASA, their Technical Agent, has notified us of the unsafe condition described in the MCAI AD. We are issuing this AD because we evaluated all information provided by EASA and determined the unsafe condition exists and is likely to exist or develop on other helicopters of this same type design.

Differences Between This AD and the MCAI AD

We do not specify dates because the dates have already passed nor do we specify the compliance time in days but rather only in hours time-in-service (TIS). We also use a different compliance time. Also, we use inspect rather than check when referring to an action required by a mechanic as opposed to a pilot.

Costs of Compliance

We estimate that this AD will affect about 4 helicopters of U.S. registry. We also estimate that it will take about 30 work-hours per helicopter to inspect and modify the MRH. The average labor rate is $85 per work-hour. Required parts will cost about $18,981 per helicopter. Based on these figures, we estimate the cost of this AD on U.S. operators will be $86,124, assuming a crack is found in each MRH cone restrainer support or dome fairing support attachment lugs.

FAA's Determination of the Effective Date

An unsafe condition exists that requires the immediate adoption of this AD. We find that the risk to the flying public justifies waiving notice and comment prior to adoption of this rule because of the short compliance time of 15 hours TIS to conduct the inspection for a crack in the attachment lugs. Failure of these lugs could result in loss of control of the helicopter. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2010-0721; Directorate Identifier 2009-SW-56-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

2010-15-04 EUROCOPTER FRANCE: Amendment 39-16370. Docket No. FAA-2010-0721; Directorate Identifier 2009-SW-57-AD.

Effective Date

(a) This AD becomes effective on August 11, 2010.

Other Affected ADs

(b) None.

Applicability

(c) This AD applies to Model EC225LP helicopters, except those that have been modified with MOD 0743718, certificated in any category.

Reason

(d) The mandatory continuing airworthiness information (MCAI) AD states there have been a “few” reports of cracks and failure of the main rotor hub (MRH) cone restrainer support lugs at their attachment points on the reinforcement ring where the dome fairing is secured. Also, cracks on the dome fairing support have been reported. Failure of the cone restrainer support or the dome fairing support attachment lugs may lead to loss of the dome fairing, damage to the rotor blades, and subsequent loss of control of the helicopter.

Actions and Compliance

(e) Required as indicated:

(1) Within 15 hours time-in-service (TIS), unless already done, and thereafter at intervals not to exceed 15 hours TIS, visually inspect for a crack in the area of the attachment points on the MRH reinforcement ring of the lugs securing the cone restrainer support and also of the lugs securing the dome fairing support as depicted in Figures 1 and 2 of Eurocopter Emergency Alert Service Bulletin No. 05A003, Revision 2, dated February 3, 2009 (EASB No. 05A003) and by following the Accomplishment Instructions, paragraph 2.B.1, of EASB No. 05A003.

Note: The one EASB No. 05A003 applies to two different model helicopters: Eurocopter Model EC225LP helicopters that are type-certificated in the United States and Eurocopter Model EC725AP military helicopters that are not type-certificated in the United States.

(2) If a crack is found in the area of any of the lugs of the cone restrainer support or the dome fairing support, as depicted in Figures 1 and 2 of EASB No. 05A003, before further flight, modify the MRH by replacing both the cone restrainer support and the dome fairing support assembly by following the Accomplishment Instructions, paragraphs 2.B.1. and 2.B.2., reidentify the cone restrainer support and dome fairing assembly by following paragraph 2.D., and if removed, track and balance the main rotor blades by following paragraph 3.B.3. of Eurocopter Service Bulletin No. 62-007, Revision 1, dated July 10, 2009.

(f) Replacing and reidentifying both the cone restrainer support and the dome fairing support assembly in accordance with paragraph (e)(2) of this AD constitutes terminating action for the requirements of this AD.

Differences Between this AD and the MCAI AD

(g) We do not specify dates because the dates are already passed nor do we specify the time in days but rather only in hours TIS. We also use a different initial compliance time. Also, we use inspect rather than check when referring to an action required by a mechanic as opposed to a pilot.

Other Information

(h) Alternative Methods of Compliance (AMOCs): The Manager, Safety Management Group, ATTN: DOT/FAA Southwest Region, Gary Roach, ASW-111, Aviation Safety Engineer, Rotorcraft Directorate, Regulations and Guidance Group, 2601 Meacham Blvd., Fort Worth, Texas 76137, telephone (817) 222-5130, fax (817) 222-5961, has the authority to approve AMOCs for this AD, if requested, using the procedures found in 14 CFR 39.19.

(i) A special flight permit may be issued to ferry the helicopter to a location where the modification can be done, provided the dome fairing and its attachment screws are removed. When allowing flight with the dome fairing removed, the special flight permit must contain information that alerts the flight crew that when flying without the dome fairing, the lateral vibrations of the helicopter significantly increase at speeds of 70 to 120 knots. These lateral vibrations do not affect flight safety.

Related Information

(j) European Aviation Safety Agency (EASA) Airworthiness Directive No. 2009-0024, dated February 20, 2009, contains related information.

Joint Aircraft System/Component (JASC) Code

(k) The JASC Code is 6220: Main Rotor Head.

Material Incorporated by Reference

(l) You must use the specified portions of Eurocopter Emergency Alert Service Bulletin No. 05A003, Revision 2, dated February 3, 2009, and Eurocopter Service Bulletin No. 62-007, Revision 1, dated July 10, 2009, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (800) 232-0323, fax (972) 641-3710, or at http://www.eurocopter.com.

(3) You may review copies at the FAA, Office of the Regional Counsel, Southwest Region, 2601 Meacham Blvd., Fort Worth, Texas, 76137; or at the National Archives and Records Administration (NARA). For information on the availability of this material at NARA, call (202) 741-6030, or go to: http://www.archives.gov/federal-register/cfr/ibr-locations.html.

Issued in Fort Worth, Texas, on July 13, 2010.
Mark R. Schilling,
Acting Manager, Rotorcraft Directorate, Aircraft Certification Service.

[FR Doc. 2010-17757 Filed 7-26-10; 8:45 am]

BILLING CODE 4910-13-P